DEPARTMENT OF COMMERCE

International Trade Administration

[A-588-851]

Certain Small Diameter Carbon and Alloy Seamless Standard, Line, and Pressure Pipe (Under 4 ½ Inches) From Japan: Preliminary Results of Antidumping Duty Administrative Review and Preliminary Determination of No Shipments; 2014-2015

AGENCY: Enforcement and Compliance, International Trade Administration, Department of Commerce.

SUMMARY: In response to a request from the petitioner,¹ the Department of Commerce (the Department) is conducting an administrative review of the antidumping duty order on certain small diameter carbon and alloy seamless standard, line, and pressure pipe (under 4 ½ inches) from Japan. The period of review (POR) is June 1, 2014, through May 31, 2015.² The review covers five producers or exporters of subject merchandise.³ We preliminarily find that NKK Tubes (NKK) had no shipments during the POR. Further, we preliminarily find that subject merchandise has been sold at less than normal value by JFE Steel Corporation (JFE), Nippon Steel & Sumitomo Metal Corporation (NSSMC), Nippon Steel Corporation (NSC), and Sumitomo Metal Industries, Ltd. (SMI). Interested parties are invited to comment on these preliminary results.

¹ The petitioner is United States Steel Corporation.

² See Initiation of Antidumping and Countervailing Duty Administrative Reviews, 80 FR 45947 (August 3, 2015).

³ The five producers or exporters are: JFE Steel Corporation (JFE), Nippon Steel & Sumitomo Metal Corporation (NSSMC), Nippon Steel Corporation (NSC), NKK Tubes (NKK), and Sumitomo Metal Industries, Ltd. (SMI).

DATES: Effective July 12, 2016.

FOR FURTHER INFORMATION CONTACT: Jennifer Shore or Peter Zukowski, AD/CVD Operations, Office I, Enforcement and Compliance, International Trade Administration, U.S. Department of Commerce, 14th Street and Constitution Avenue NW., Washington, DC 20230; telephone: (202) 482-2778 or (202) 482-0189, respectively.

SUPPLEMENTARY INFORMATION:

Background

As explained in the memorandum from the Acting Assistant Secretary for Enforcement and Compliance, the Department exercised its discretion to toll all administrative deadlines due to a closure of the Federal Government. As a result, the revised deadline for the preliminary results of this review was March 7, 2016.⁴ On March 2, 2016, the Department extended the deadline for the preliminary results to July 5, 2016.

⁴ See Memorandum to the Record from Ron Lorentzen, Acting Assistant Secretary for Enforcement & Compliance, regarding “Tolling of Administrative Deadlines As a Result of the Government Closure During Snowstorm `Jonas,'” dated January 27, 2016. If the new deadline falls on a non-business day, in accordance with the Department's practice, the deadline will become the next business day.

Scope of the Order

The merchandise subject to the antidumping duty order is certain small diameter carbon and alloy seamless standard, line, and pressure pipe (under 4 ½ inches) from Japan, which is currently classified under subheading 7304.10.10.30, 7304.10.10.45, 7304.10.10.60, 7304.10.50.50, 7304.19.10.30, 7304.19.10.45, 7304.19.10.60, 7304.19.50.50, 7304.31.60.10, 7304.31.60.50, 7304.39.00.04, 7304.39.00.06, 7304.39.00.08, 7304.39.00.36, 7304.39.00.40, 7304.39.00.44, 7304.39.00.48, 7304.39.00.52, 7304.39.00.56, 7304.39.00.62, 7304.39.00.68, 7304.39.00.72, 7304.51.50.15, 7304.51.50.45, 7304.51.50.60, 7304.59.20.30, 7304.59.20.55, 7304.59.20.60, 7304.59.20.70, 7304.59.60.00, 7304.59.80.30, 7304.59.80.35, 7304.59.80.40, 7304.59.80.45, 7304.59.80.50, 7304.59.80.55, 7304.59.80.60, 7304.59.80.65, and 7304.59.80.70 of the Harmonized Tariff Schedule of the United States (HTSUS). Although the HTSUS subheadings are provided for convenience and customs purposes, the written description of the merchandise subject to the order is dispositive.⁵

⁵ For a full description of the scope of the order, see the “Preliminary Decision Memorandum for the Administrative Review of the Antidumping Duty Order on Certain Small Diameter Carbon and Alloy Seamless Standard, Line, and Pressure Pipe (Under 4 ½ Inches) from Japan; 2014-2015 Administrative Review” from Gary Taverman, Associate Deputy Assistant Secretary for Antidumping and Countervailing Duty Operations, to Ronald K. Lorentzen, Acting Assistant Secretary for Enforcement and Compliance, dated concurrently with this notice (Preliminary Decision Memorandum).

Methodology

In accordance with sections 776(a) and (b) of the Tariff Act of 1930, as amended (the Act), we relied on facts available with an adverse inference with respect to NSSMC, the sole company selected for individual examination in this review, and we preliminarily assign to it a dumping margin of 106.07 percent. In making these findings, we relied on facts available because NSSMC failed to respond to the Department's antidumping duty questionnaire, and thus withheld requested information, failed to provide requested information by the established deadlines, and significantly impeded this proceeding. See sections 776(a)(1) and (2)(A)-(C) of the Act. Furthermore, because we preliminarily determine that NSSMC failed to cooperate by not acting to the best of its ability to comply with the Department's requests for information, we drew an adverse inference in selecting from among the facts otherwise available. See section 776(b) of the Act.

Additionally, as indicated in the “Preliminary Results of Review” section below, we preliminarily determine that a margin of 106.07 percent applies to the three firms not selected for individual review. For further information, see the Preliminary Decision Memorandum at “Rate for Non-Examined Companies.”

For a full description of the methodology underlying our conclusions, see the Preliminary Decision Memorandum. A list of topics included in the Preliminary Decision Memorandum is included in the Appendix attached to this notice.

The Preliminary Decision Memorandum is a public document and is on file electronically via Enforcement and Compliance's Antidumping and Countervailing Duty Centralized Electronic Service System (ACCESS). ACCESS is available to registered users at http://access.trade.gov and to all parties in the Central Records Unit, room B8024 of the main Department of Commerce building. In addition, a complete version of the Preliminary Decision Memorandum can be accessed directly on the Internet at: http://enforcement.trade.gov/frn/index.html. A list of the topics discussed in the Preliminary Decision Memorandum is attached as an Appendix to this notice.

Preliminary Determination of No Shipments

Based on our analysis of U.S. Customs and Border Protection (CBP) information and information provided by NKK, we preliminarily determine that NKK had no shipments of the subject merchandise, and, therefore, no reviewable transactions, during the POR. For a full discussion of this determination, see the Preliminary Decision Memorandum. Consistent with our practice, we are not preliminarily rescinding the review with respect to NKK but, rather, we will complete the review with respect to this company and issue appropriate instructions to CBP based on the final results of this review.⁶

⁶ See e.g., Certain Frozen Warmwater Shrimp From Thailand; Preliminary Results of Antidumping Duty Administrative Review, Partial Rescission of Review, Preliminary Determination of No Shipments; 2012-2013, 79 FR 15951, 15952 (March 24, 2014), unchanged in Certain Frozen Warmwater Shrimp From Thailand: Final Results of Antidumping Duty Administrative Review, Final Determination of No Shipments, and Partial Rescission of Review; 2012-2013, 79 FR at 51306 (August 28, 2014).

Preliminary Results of Review

As a result of our review, we preliminarily determine that the following dumping margins on certain small diameter carbon and alloy seamless standard, line, and pressure pipe (under 4 ½ inches) from Japan exist for the period June 1, 2014, through May 31, 2015, at the following rates:

Producer and/or Exporter | Margin (percent)
JFE Steel Corporation | 106.07
Nippon Steel & Sumitomo Metal Corporation | 106.07
Nippon Steel Corporation | 106.07
Sumitomo Metals Industries | 106.07

Disclosure and Public Comment

Pursuant to 19 CFR 351.309(c), interested parties may submit case briefs not later than 30 days after the date of publication of this notice. Rebuttal briefs, limited to issues raised in the case briefs, may be filed not later than five days after the date for filing case briefs.⁷ Parties who submit case briefs or rebuttal briefs in this proceeding are encouraged to submit with each argument: (1) A statement of the issue; (2) a brief summary of the argument; and (3) a table of authorities.⁸ Interested parties who wish to comment on the preliminary results must file briefs electronically using ACCESS.⁹ An electronically-filed document must be received successfully in its entirety in ACCESS, by 5 p.m. Eastern Time (ET) on the date the document is due.

⁷ See 19 CFR 351.309(d).

⁸ See 19 CFR 351.303 (for general filing requirements).

⁹ Id.

Pursuant to 19 CFR 351.310(c), interested parties who wish to request a hearing, or to participate if one is requested, must submit a written request to the Assistant Secretary for Enforcement and Compliance, filed electronically via ACCESS, within 30 days after the date of publication of this notice. Requests should contain: (1) The party's name, address and telephone number; (2) the number of participants; and (3) a list of issues to be discussed. Issues raised in the hearing will be limited to those raised in the respective case briefs.

The Department intends to issue the final results of this administrative review, including the results of its analysis of the issues raised in any written briefs, not later than 120 days after the date of publication of this notice, pursuant to section 751(a)(3)(A) of the Act.

Assessment Rates

Upon issuance of the final results, the Department shall determine, and CBP shall assess, antidumping duties on all appropriate entries covered by this review. If the preliminary results are unchanged for the final results we will instruct CBP to apply an ad valorem assessment rate of 106.07 percent to all entries of subject merchandise during the POR which were produced and/or exported by NSSMC, and an ad valorem assessment rate of 106.07 percent to all entries of subject merchandise during the POR which were produced and/or exported by the three aforementioned companies which were not selected for individual examination.¹⁰

¹⁰ See Preliminary Decision Memorandum at section V.b “Rate for Non-Examined Companies” (for an explanation of how we preliminarily determined the rate for non-selected companies).

We intend to issue liquidation instructions to CBP 15 days after publication of the final results of review.

Cash Deposit Requirements

The following deposit requirements will be effective upon publication of the notice of final results of administrative review for all shipments of certain small diameter carbon and alloy seamless standard, line, and pressure pipe (under 4 ½ inches) from Japan entered, or withdrawn from warehouse, for consumption on or after the date of publication, as provided by section 751(a)(2) of the Act: (1) The cash deposit rates for the reviewed companies will be the rates established in the final results of this review; (2) for merchandise exported by manufacturers or exporters not covered in this review but covered in a prior segment of the proceeding, the cash deposit rate will continue to be the company-specific rate published for the most recently completed segment of this proceeding; (3) if the exporter is not a firm covered in this review, a prior review, or the less-than-fair-value investigation but the manufacturer is, the cash deposit rate will be the rate established for the most recently completed segment of this proceeding for the manufacturer of the merchandise; (4) if neither the exporter nor the manufacturer has its own rate, the cash deposit rate will continue to be 70.43 percent, the all-others rate established in the order.¹¹ These deposit requirements, when imposed, shall remain in effect until further notice.

¹¹ See Notice of Antidumping Duty Orders: Certain Large Diameter Carbon and Alloy Seamless Standard, Line and Pressure Pipe from Japan; and Certain Small Diameter Carbon and Alloy Seamless Standard, Line and Pressure Pipe From Japan and the Republic of South Africa, 65 FR 39360 (June 26, 2000).

Notifications to Importers

This notice serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notification to Interested Parties

This notice is issued and published in accordance with sections 751(a)(1) and 777(i)(1) of the Act.

Dated: July 5, 2016.
Ronald K. Lorentzen,
Acting Assistant Secretary for Enforcement and Compliance.

Appendix

List of Topics Discussed in Preliminary Decision Memorandum

I. Summary

II. Background

III. Scope of the Order

IV. Preliminary Determination of No Shipments

V. Discussion of Methodology

a. Use of Facts Otherwise Available

i. Use of Facts Available

ii. Application of Facts Available with and Adverse Inference

iii. Selection and Corroboration of Information Used as Facts Available

b. Rate for Non-Examined Companies

VI. Recommendation

[FR Doc. 2016-16473 Filed 7-11-16; 8:45 am]

BILLING CODE 3510-DS-P